DEPARTMENT OF HOUSING AND URBAN DEVELOPMENT

24 CFR Part 3285

[Docket No. FR-4928-F-02]

RIN 2502-AI25

Model Manufactured Home Installation Standards

Correction

In rule document 07-5004 beginning on page 59338 in the issue of Friday, October 19, 2007 make the following correction:

§3285.702 [Corrected]

On page 59390, Figure A to §3285.702 is reprinted as shown below:

[FR Doc. C7-5004 Filed 11-1-07; 8:45 am]

BILLING CODE 1505-01-D